DEPARTMENT OF VETERANS AFFAIRS

38 CFR Part 38

RIN 2900-AP74

Authority To Solicit Gifts and Donations; Withdrawal

AGENCY: Department of Veterans Affairs.

ACTION: Withdrawal of proposed rule.

SUMMARY: The Department of Veterans Affairs (VA) is withdrawing VA's proposed rulemaking, published on July 11, 2016, to amend its regulation giving the Under Secretary of Memorial Affairs (USMA), or his designee, authority to solicit gifts and donations. VA received two supportive comments and no adverse comments concerning the proposed rule and its companion substantially identical direct final rule published in the Federal Register on the same date. Accordingly, this document withdraws as unnecessary the proposed rule.

DATES: The proposed rule published on July 11, 2016, 81 FR 44827, is withdrawn.

FOR FURTHER INFORMATION CONTACT: Thomas Howard, Chief of Staff, National Cemetery Administration (NCA), Department of Veterans Affairs, (40A), 810 Vermont Avenue NW., Washington, DC 20420, (202) 461-6215. (This is not a toll-free number.)

SUPPLEMENTARY INFORMATION: In a proposed rule published in the Federal Register on July 11, 2016, 81 FR 44827, VA proposed to amend 38 Code of Federal Regulations (CFR) 38.603(b) that prohibits the solicitation of contributions. On the same date, VA published a substantially identical direct final rule at 81 FR 44792. The direct final rule and proposed rule each provided a 30-day comment period that ended on August 10, 2016. Two public comments were received, both in support of the rulemakings. Because no adverse comments were received, VA is withdrawing the proposed rule as unnecessary. In a companion document in this issue of the Federal Register, VA is confirming the effective date of September 9, 2016 for the direct final rule, RIN 2900-AP75, published at 81 FR 44792.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on September 16, 2016, for publication.

Dated: September 19, 2016.
Jeffrey Martin,
Office Program Manager, Office of Regulation Policy & Management, Office of the Secretary, Department of Veterans Affairs.

[FR Doc. 2016-22833 Filed 9-21-16; 8:45 am]

BILLING CODE 8320-01-P